DEPARTMENT OF THE INTERIOR

Bureau of Land Management

[LLAZP02000.L16100000.DQ0000.LXSS089A0000.241A]

Notice of Availability of the Proposed Resource Management Plan/Final Environmental Impact Statement for the Lower Sonoran and Sonoran Desert National Monument, Arizona

AGENCY: Bureau of Land Management, Interior.

ACTION: Notice of Availability.

SUMMARY: In accordance with the National Environmental Policy Act of 1969 (NEPA), as amended, and the Federal Land Policy and Management Act of 1976, as amended, the Bureau of Land Management (BLM) has prepared a Proposed Resource Management Plan (RMP)/Final Environmental Impact Statement (EIS) for the Lower Sonoran (LS) and Sonoran Desert National Monument (SDNM), Arizona, and by this notice is announcing its availability.

DATES: BLM planning regulations state that any person who meets the conditions as described in the regulations may protest the BLM's Proposed RMP/Final EIS. A person who meets the conditions and files a protest must file the protest within 30 days of the date that the Environmental Protection Agency publishes its notice in the Federal Register.

ADDRESSES: The Lower Sonoran and Sonoran Desert National Monument Proposed RMP/Final EIS is only available in electronic format on compact disk (CD) or accessible on the Internet. CDs containing the Lower Sonoran and Sonoran Desert National Monument Proposed RMP/Final EIS have been sent to affected Federal, State, and local government agencies, tribal governments, and to other stakeholders. One hard copy of the Proposed RMP/Final EIS is available for public inspection at the BLM Phoenix District Office, 21605 North 7th Avenue, Phoenix, Arizona 85027. People interested in receiving a CD should contact the BLM Phoenix District. The Proposed RMP/Final EIS may also be reviewed at the following Web site: http://www.blm.gov/az/st/en/prog/planning/son_des.html. All protests must be in writing and mailed to one of the following addresses:

Regular Mail: BLM Director (210), Attention: Brenda Williams, P.O. Box 71383, Washington, DC 20024-1383

Overnight Mail: BLM Director (210), Attention: Brenda Williams, 20 M Street SE., Room 2134LM, Washington, DC 20003

FOR FURTHER INFORMATION CONTACT: Chris Horyza, RMP Project Manager, telephone: 623-580-5639; address: BLM Phoenix District Office, 21605 North 7th Avenue, Phoenix, Arizona 85027; email: blm_az_ls_sdnm_plan@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Compact disks of the LS-SDNM were sent to the following locations to be made available for public access:

• http://www.blm.gov/az/st/en/prog/planning/son_des/reports.html.

• BLM Arizona State Office, One North Central Avenue, Suite 800, Phoenix, Arizona 85004.

• Apache Junction Public Library, 1177 North Idaho Road, Apache Junction, Arizona 85219.

• Buckeye Public Library, 310 North 6th Street, Buckeye, Arizona 85326.

• Casa Grande Public Library, 449 North Dry Lake, Casa Grande, Arizona 85222.

• Gila Bend Public Library, 202 North Euclid Avenue, Gila Bend, Arizona 85337.

• Salazar-Ajo Branch Library, 33 Plaza, Ajo, Arizona 85321.

The LS-SDNM Planning Area includes approximately 8.9 million acres of public and private lands, approximately 1.4 million surface acres, and 3.9 million subsurface/mineral-split estate acres administered by the BLM. These include about 930,200 surface acres in the Lower Sonoran Field Office, referred to as the LS Decision Area, as well as 486,400 surface acres within the Monument, referred to as the SDNM Decision Area.

The BLM released the Lower Sonoran and Sonoran Desert National Monument Draft RMP/Draft EIS for public review and comment on August 26, 2011. The release initiated a 90-day public comment period, which concluded on November 25, 2011. The BLM made the Draft RMP/Draft EIS available to the public on the BLM Web site, as well as hard copies for review at several local libraries. The document was also available upon request from the BLM Phoenix District in hard copy and on CD. During the public comment period, the BLM held seven public meetings and received over 4,800 comment submissions via email, mail, meetings, and fax. Each submission was carefully reviewed to identify substantive comments and substantive comments were considered and incorporated as appropriate in the Proposed RMP/Final EIS. The focus of public comment on the Draft RMP/Draft EIS reinforced the issues discovered during scoping.

Five alternatives are analyzed in the Proposed RMP/Final EIS. The “no action” alternative, Alternative A, represents the current management situation for both the LS and the SDNM decision areas and serves as a baseline for most resource and land-use allocations.

Alternative B identifies the greatest amount of public lands suitable for appropriate multiple uses, emphasizing opportunities for motorized and developed recreational uses while reducing opportunities for experiencing remote settings and non-motorized recreation.

Alternative C attempts to balance resource protection with human use and influence providing for a variety of uses that emphasize resource protection and conservation and propose a mix of natural processes and techniques for resource stabilization and restoration.

Alternative D places the greatest emphasis on minimizing human use/influence and maintaining primitive landscapes by focusing on natural processes and other unobtrusive methods for resource stabilization and restoration.

Alternative E, the Proposed Alternative, attempts to balance human use and influence with resource protection by incorporating elements from each of the other action alternatives. It provides long-term protection and conservation of resources.

Comments on the Draft RMP/Draft EIS pertained to a number of issues, including but not limited to the scope of the document, NEPA adequacy of the baseline data and impact analysis, information related to consultation and coordination on the action, and policies and guidance the BLM needed to follow. Comments were also received for the following resources and resource uses: Air quality, cultural resources, wildlife, livestock grazing, land use and special designations, minerals and energy, noise, national historic trails, recreation, socioeconomics, special status species, tribal interests, vegetation, visual resources, wilderness characteristics, and water resources. Due to review of public comments, coordination with cooperating agencies, and internal reviews of the Draft RMP/Draft EIS, several revisions have been made to this Proposed RMP/Final EIS. The BLM reviewed all new information and changes and determined it was not necessary to issue a supplemental EIS. The following is a summary of substantive changes made to the Proposed RMP/Final EIS.

There were several comments that the BLM had not complied with BLM Washington Office (WO) Instruction Memorandum (IM) No. 2011-154, Requirement to Conduct and Maintain Inventory Information for Wilderness Characteristics and to Consider Lands with Wilderness Characteristics in Land Use Plans. Commenters noted several geographic areas that were not addressed in the Draft EIS, including Sentinel Plain. In response, the BLM completed its inventory for wilderness characteristics on all BLM lands in the planning area and has included this new information in the Final EIS.

Commenters also noted that the BLM did not comply with the BLM WO IM No. 2011-004, Revised Recreation and Visitor Services Land Use Planning Guidance, Updated Checklist, and Three Land Use Planning Templates. In response, the BLM revised the recreation allocations to comply with the new guidance.

BLM received many comments regarding recreational target shooting that were both opposed to, and in favor of closure of the Monument to target shooting. Alternative E (the Proposed Plan) was revised to allow the Monument to remain open to recreational target shooting consistent with the No Action alternative, subject to restrictions, monitoring, and input from local stakeholders and the public to address the impacts of recreational shooting.

The document was also edited to correct minor inconsistencies (e.g., incorrect table references or titles), typos, and other technical issues.

The BLM responses to the comments are presented in the Proposed RMP/Final EIS in Chapter 6, Response to Comments on the Draft RMP/Draft EIS.

Instructions for filing a protest with the Director of the BLM regarding the Proposed RMP/Final EIS may be found in the “Dear Reader Letter” of the LS and SDNM Proposed RMP/Final EIS and at 43 CFR 1610.5-2. Emailed and faxed protests will not be accepted as valid protests unless the protesting party also provides the original letter by either regular or overnight mail postmarked by the close of the protest period. Under these conditions, the BLM will consider the emailed or faxed protest as an advance copy and it will receive full consideration. If you wish to provide the BLM with such advance notification, please direct faxed protests to the attention of the BLM protest coordinator at 202-912-7212, and emails to Brenda_Hudgens-Williams@blm.gov.

All protests, including the follow-up letter to emails or faxes, must be in writing and mailed to the appropriate address, as set forth in the ADDRESSES section above.

Before including your phone number, email address, or other personal identifying information in your protest, you should be aware that your entire protest—including your personal identifying information—may be made publicly available at any time. While you can ask us in your protest to withhold your personal identifying information from public review, we cannot guarantee that we will be able to do so.

Authority: 40 CFR 1506.6 and 1506.10, 43 CFR 1610.2 and 1610.5.

Raymond Suazo,
Arizona State Director.

[FR Doc. 2012-14564 Filed 6-14-12; 8:45 am]

BILLING CODE 4310-32-P